DEPARTMENT OF ENERGY

Office of Science Financial Assistance Program Notice 03-08: Advanced Detector Research Program

AGENCY: U.S. Department of Energy (DOE).

ACTION: Notice inviting grant applications.

SUMMARY: The Division of High Energy Physics of the Office of Science (SC), U.S. Department of Energy, hereby announces its interest in receiving grant applications for support under its Advanced Detector Research Program. Applications should be from investigators who are currently involved in experimental high energy physics, and should be submitted through a U.S. academic institution. The purpose of this program is to support the development of the new detector technologies needed to perform future high energy physics experiments.

DATES: To permit timely consideration for award in Fiscal Year 2003, formal applications submitted in response to this notice should be received before February 5, 2003.

Applicants are requested to submit a letter of intent by January 10, 2003, which includes the title of the proposal, the name of the principal investigator(s), the requested funding, and a one-page abstract. Failure to submit a letter of intent will not negatively prejudice a responsive formal application submitted in a timely manner.

ADDRESSES: Formal applications in response to this solicitation are to be electronically submitted by an authorized institutional business official through DOE's Industry Interactive Procurement System (IIPS) at: http://e-center.doe.gov/. IIPS provides for the posting of solicitations and receipt of applications in a paperless environment via the Internet. In order to submit applications through IIPS your business official will need to register at the IIPS Web site. The Office of Science will include attachments as part of this notice that provide the appropriate forms in PDF fillable format that are to be submitted through IIPS. Color images should be submitted in IIPS as a separate file in PDF format and identified as such. These images should be kept to a minimum due to the limitations of reproducing them. They should be numbered and referred to in the body of the technical scientific proposal as Color image 1, Color image 2, etc. Questions regarding the operation of IIPS may be e-mailed to the IIPS Help Desk at: HelpDesk@e-center.doe.gov or you may call the help desk at: (800) 683-0751. Further information on the use of IIPS by the Office of Science is available at: http://www.sc.doe.gov/production/grants/grants.html.

If you are unable to submit an application through IIPS please contact the Office of the Director, Grants and Contracts Division, Office of Science, DOE at: (301) 903-5212 in order to gain assistance for submission through IIPS or to receive special approval and instructions on how to submit printed applications.

Letters of intent referencing Program Notice 03-08 should be submitted via e-mail at the following e-mail address: Michael.Procario@science.doe.gov. Please include the phrase “ADR letter of intent” in the subject line.

FOR FURTHER INFORMATION CONTACT: Dr. Michael Procario, SC-221/Germantown Building, U.S. Department of Energy, 1000 Independence Avenue, SW, Washington, DC 20585-1290. Telephone: (301) 903-2890. e-mail: Michael.Procario@science.doe.gov.

SUPPLEMENTARY INFORMATION: Future high energy physics experiments will require higher performance detectors to exploit the higher beam energies and intensities of new or upgraded accelerators. Higher performance detectors are also needed to probe for new physical processes in both accelerator-based and non-accelerator-based experiments. Proposed detector research should be driven by the anticipated needs of experiments to be built within the foreseeable future. Generic detector research that could be applied to upgrades that have not yet been approved would also be appropriate. It is expected that the final engineering or fabrication of detectors for specific experiments will not be funded by this program. Interesting technologies would include but not be limited to charged particle track detectors, calorimeters or particle identification detectors that are less sensitive to radiation, have higher resolution, are lower in cost, or can be read out faster than currently available detectors. Proposals to develop detector technology that is targeted at experiments for an energy frontier e+e−linear collider should not be submitted under this notice unless additional credible uses for the technology are described. Alternative funding is potentially available for that purpose.

It is anticipated that in Fiscal Year 2003 approximately $500,000 will be available for new awards. The number of awards will be determined by the number of excellent applications and the total funds available for this program. Multiple year grants should be requested if the project cannot be completed in one year. A maximum of three years will be considered. Out-year funding will be provided on an annual basis subject to availability of funds. Cost sharing is encouraged but not required.

Applicants are welcome to collaborate with researchers in other institutions, such as universities, industry, non-profit organizations, federal laboratories and Federally Funded Research and Development Centers (FFRDCs), which include the DOE National Laboratories. In the case of collaborative applications submitted from different institutions that are directed at a single research activity, each application must have a different scope of work and a qualified principal investigator who is responsible for the research effort being performed at his or her institution. There must be a single technical description of the proposed work, and separate face pages and budget pages for each institution. The scope of work at each institution must be clearly specified. While collaboration with researchers at FFRDCs (Fermi National Accelerator Lab and other DOE national labs are examples of FFRDCs), is encouraged, no funds will be provided to those organizations under this notice. The procedure for submitting a collaborative application can be accessed via the web at: http://www.sc.doe.gov/production/grants/Colab.html. This section provides specific details regarding collaborating institutions and states, “The lead organization must submit their own grant application plus the other collaborator's applications to DOE in one package with a cover letter which describes the role to be played by each organization, the managerial arrangements, and the advantages of the multi-organizational effort.”

Applications will be subjected to scientific merit review (peer review) and will be evaluated against the following criteria, which are listed in descending order of importance as set forth in 10 CFR part 605.10 (d):

1. Scientific and/or technical merit of the project;

2. Appropriateness of the proposed method or approach;

3. Competency of applicant's personnel and adequacy of proposed resources; and

4. Reasonableness and appropriateness of the proposed budget.

In considering item 1 particular attention will be paid to:

• the importance of the physics that motivates developing the proposed detector,

• whether the proposed research is generic detector research that will benefit more than one experiment,

• the magnitude of the potential impact versus the risk of failure.

General information about development and submission of applications, eligibility, limitations, evaluations and selection processes, and other policies and procedures are contained in the Application Guide for the Office of Science Financial Assistance Program and 10 CFR part 605. Electronic access to the application guide and required forms is available on the World Wide Web at: http://www.sc.doe.gov/production/grants/grants.html.

In addition, for this notice, project descriptions must be 25 pages or less, including tables and figures, but excluding forms and certifications. The application must also contain an abstract or project summary, letters of intent from all non-funded collaborators, and short curriculum vitae of all senior personnel.

The Catalog of Federal Domestic Assistance Number for this program is 81.049, and the solicitation control number is ERFAP 10 CFR part 605.
Issued in Washington, DC, on October 28, 2002.
John Rodney Clark,
Associate Director of Science for Resource Management.

[FR Doc. 02-27987 Filed 11-1-02; 8:45 am]

BILLING CODE 6450-01-P